DEPARTMENT OF THE INTERIOR

Office of the Secretary

[Docket No. ONRR-2012-0003; DS63613200 DR2000000.PX8000 189D0102R2]

U.S. Extractive Industries Transparency Initiative Multi-Stakeholder Group (USEITI MSG) Advisory Committee

AGENCY: Office of Natural Resources Revenue, Interior.

ACTION: USEITI Advisory Committee meeting cancellation.

SUMMARY: The November 2017 United States Extractive Industries Transparency Initiative Advisory Committee meeting has been cancelled.

DATES: The meeting was scheduled for November 15-16, 2017, in Washington DC.

FOR FURTHER INFORMATION CONTACT: Judith Wilson, Program Manager; 1849 C Street NW., MS 4211; Washington, DC 20240. You may also contact the USEITI Secretariat via email at useiti@ios.doi.gov, by phone at 202-208-0272, or by fax at 202-513-0682.

SUPPLEMENTARY INFORMATION: The U.S. Department of the Interior established the USEITI Advisory Committee on July 26, 2012, to serve as the USEITI multi-stakeholder group. The United States has officially withdrawn from the initiative but will continue to participate as a supporting country. More information about the Committee, including its charter, is available at www.doi.gov/eiti/faca.

Gregory J. Gould,
Director—Office of Natural Resources Revenue.

[FR Doc. 2017-23900 Filed 11-2-17; 8:45 am]

BILLING CODE 4335-30-P